DEPARTMENT OF THE INTERIOR

Fish and Wildlife Service

[FWS-R8-ES-2011-N120; 80221-1113-0000-F5]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before July 8, 2011.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-38521A

Applicant: Phillip A Poirier, Stockton, California.

The applicant requests a permit to take (capture, collect, release, and kill) the vernal pool tadpole shrimp (Lepidurus packardi) in conjunction with survey activities throughout the range of the species in Sacramento County, California, for the purpose of enhancing the species' survival.

Permit No. TE-38480A

Applicant: Valentine A. Hemingway, Santa Cruz, California.

The applicant requests a permit to take (survey, capture, handle, and release) the Santa Cruz long-toed salamander (Ambystoma macrodactylum croceum) in conjunction with surveys throughout the range of the species in California for the purpose of enhancing the species' survival.

Permit No. TE-221411

Applicant: Center for Natural Lands Management, Fallbrook, California.

The applicant requests a permit to take (capture, handle, and release) the Stephens' kangaroo rat (Dipodomys stephensi) in conjunction with surveys and population monitoring activities throughout the range of each species in California for the purpose of enhancing the species' survival.

Permit No. TE-39142A

Applicant: Stanford University, Stanford, California.

The applicant requests a permit to take (survey, capture, handle, and release) the San Francisco garter snake (Thamnophis sirtalis) and tidewater goby (Eucyclogobius newberryi) in conjunction with survey activities in San Mateo, Sonoma, Del Norte, and Humboldt Counties, California, for the purpose of enhancing the species' survival.

Permit No. TE-39183A

Applicant: Allegra L. Simmons, San Diego, California.

The applicant requests a permit to take (survey by pursuit) the Quino checkerspot butterfly (Euphydryas editha quino) in conjunction with surveys throughout the range of the species in California for the purpose of enhancing the species' survival.

Permit No. TE-39184A

Applicant: Tara M. Cornelisse, Felton, California.

The applicant requests a permit to take (survey, handle, collect, transport, hold in captivity, and take biological samples) the Ohlone tiger beetle (Cicindela ohlone) in conjunction with surveys and genetic analysis in Santa Cruz County, California, for the purpose of enhancing the species' survival.

Permit No. TE-39186A

Applicant: Carlos Alvarado, Sacramento, California.

The applicant requests a permit to take (survey, capture, handle, and release) the California tiger salamander (Ambystoma californiense) in conjunction with surveys and population monitoring throughout the range of the species in California for the purpose of enhancing the species' survival.

Permit No. TE-036090

Applicant: Virginia S. Moran, Grass Valley, California.

The applicant requests a permit to remove/reduce to possession the Galium californicum sierra (El Dorado bedstraw), Cordylanthus mollis mollis (soft bird's-beak), Cordylanthus palmatus (Palmate-bracted bird's-beak), Eriogonum apricum var. apricum (lone buckwheat), Limnanthes floccosa californica (Shippee meadowfoam), Oenothera deltoids howellii (Antioch Dunes evening primrose), Pseudobahia bahiifolia (Hartweg's golden sunburst), Orcutttia pilosa (hairy Orcutt grass), Orcuttia viscida (Sacramento Orcutt grass), Tuctoria greenei (Green's awnless Orcutt grass), Tuctoria mucronata (Mucronata Orcutt grass), and Sidalcea keckii (Keck's checker-mallow) in conjunction with surveys and population monitoring activities on Federal lands throughout the range of each species in California for the purpose of enhancing the species' survival.

Permit No. TE-037806

Applicant: U.S. Bureau of Land Management, Bakersfield, California.

The applicant requests a permit to take (capture, handle, and release) the giant kangaroo rat (Dipodomys ingens) and Tipton kangaroo rat (Dipodomys nitratoides nitratoides) in conjunction with surveys and population monitoring activities on lands managed by the Bureau of Land Management in Santa Barbara, San Luis Obispo, Tulare, Kings, Fresno, and Kern Counties, California, for the purpose of enhancing the species' survival.

Permit No. TE-39795A

Applicant: Eric L. Scott, Ojai, California.

The applicant requests a permit to take (trap, mark, recapture, handle, provide basic medical care, draw blood, and recover carcasses) the Santa Cruz Island fox (Urocyon littoralis santacruzae), Santa Rosa Island fox (Urocyon littoralis santarosae), San Miguel Island fox (Urocyon littoralis littoralis), and Santa Catalina Island fox (Urocyon littoralis catalinae) in conjunction with surveys and population monitoring activities on Santa Cruz Island, Santa Rosa Island, San Miguel Island, and Santa Catalina Island in Ventura and San Diego Counties, California, for the purpose of enhancing the species' survival.

Permit No. TE-082237

Applicant: California Department of Parks and Recreation, San Simeon, California.

The applicant requests a permit to take (harass by survey, capture, measure, relocate, and release) the Morro shoulderband snail (Helminthoglypta walkeriana) and take (capture, handle, and release) the Morro Bay kangaroo rat (Dipodomys heermanni morroensis) in conjunction with surveys, habitat enhancement and population monitoring activities in San Luis Obispo County, California, for the purpose of enhancing the species' survival.

Permit No. TE-132855

Applicant: Carly M. Spahr, Ventura, California.

The applicant requests an amendment to a permit to take (locate and monitor nests) the California least tern (Sterna antillarum browni) in conjunction with population monitoring activities in Santa Barbara County, California, for the purpose of enhancing the species' survival.

Permit No. TE-068743

Applicant: University of California, Berkley, California.

The applicant requests a permit to remove/reduce to possession from Federal lands the following species: Lasthenia conjugens (Contra Costa goldfields), Arabis mcdonaldiana (McDonald's rock-cress), Calystegia stebbinsii (Stebbins' morning glory), Caulanthus californicus (California jewelflower), Ceanothus roderickii (Pine Hill cenothus), Eremalche kernensis (Kern Mallow), Eriogonum apricum var. apricum (lone buckwheat), Erysimum menziesii ssp. eurekense (Humboldt Bay wallflower), Fremontodendron decumbens (Pine Hill flannelbush), Fritillaria gentneri (Gentner's fritillara), Galium californicum ssp. sierra (El Dorado bedstraw), Gillia tenuiflora ssp. arenaria (sand gilia), Lasthenia conjugens (Contra Costa Goldfields), Layia carnosa (beach layia), Monolopia congdonii (San Joaquin woolly threads), Piperia yadonii (Yadon's rein orchid), and Sidalcea keckii (Kecck's checkerbloom) in conjunction with seed bank collection activities throughout the range of each species in California, except for San Diego, Imperial, Riverside, Orange, Los Angeles, Ventura, Santa Barbara, San Bernardino, Inyo, and Mono Counties, for the purpose of enhancing the species' survival.

Permit No. TE-42950A

Applicant: California Department of Water Resources, Fresno, California.

The applicant requests a permit to take (survey, capture, handle, and release) the California tiger salamander (Ambystoma californiense) in conjunction with presence/absence surveys and population monitoring throughout the range of the species in California for the purpose of enhancing the species' survival.

Permit No. TE-012137

Applicant: Department of Army, Fort Hunter Liggett, California.

The applicant requests a permit to take (harass by survey, capture, handle, measure, collect biological samples, and release) the arroyo toad (Anaxyrus californicus) in conjunction with surveys, population monitoring, and disease testing activities along the San Antonio River on Fort Hunter Liggett, Monterey County, California, for the purpose of enhancing the species' survival.

Permit No. TE-42833A

Applicant: Ian Maunsell, San Diego, California.

The applicant requests a permit to take (survey by pursuit) light-footed clapper rail (Rallus longirostris levipes) and Yuma clapper rail (Rallus longirostris yumanensis) in conjunction with surveys and population monitoring activities throughout the range of each species in California for the purpose of enhancing the species' survival.

Permit No. TE-43597A

Applicant: Dana H. McLaughlin, Chula Vista, California.

The applicant requests a permit to take (harass by survey, capture, handle, and release) the Pacific pocket mouse (Perognathus longimembris pacificus) in conjunction with surveys and population monitoring activities throughout the range of each species in California for the purpose of enhancing the species' survival.

Permit No. TE-43610A

Applicant: Jessica A. Easley, Sacramento, California.

The applicant requests a permit to take (survey, capture, handle, and release) the California tiger salamander (Ambystoma californiense) in conjunction with presence/absence surveys and population monitoring throughout the range of the species in California for the purpose of enhancing the species' survival.

We invite public review and comment on each of these recovery permit applications. Comments and materials we receive will be available for public inspection, by appointment, during normal business hours at the address listed in the ADDRESSES section of this notice.

Michael Long,
Regional Director, Region 8, Sacramento, California.

[FR Doc. 2011-14219 Filed 6-7-11; 8:45 am]

BILLING CODE 4310-55-P